DEPARTMENT OF ENERGY

Federal Energy Regulatory Commission

[Docket No. ER04-419-002, et al.]

Xcel Energy Services, Inc., et al.; Electric Rate and Corporate Filings

April 29, 2004.

The following filings have been made with the Commission. The filings are listed in ascending order within each docket classification.

1. Xcel Energy Services Inc

[Docket No. ER04-419-002]

Take notice that on April 26, 2004, Xcel Energy Services Inc. (XES) filed proposed revisions to the Xcel Energy Operating Companies Joint Open Access Transmission Tariff (Joint OATT) in compliance with the Commission Order No. 2003-A, Standardization of Generator Interconnection Agreements and Procedures, 69 FR 15932 (March 26, 2004), and pursuant to section 205 of the Federal Power Act, 16 U.S.C. 824d (2000). XES states that the revised tariff pages incorporate into the Joint OATT the pro forma Standard Large Generation Interconnection Procedures (LGIP) and the pro forma Standard Large Generation Interconnection Agreement (LGIA) adopted in Order No. 2003, with certain limited variations proposed under section 205. XES states that the proposed tariff changes replace the revisions to the Joint OATT filed January 20, 2004, in Docket No. ER04-419-000. XES further states that the proposed Joint OATT changes would affect new large generation interconnection requests (20 MW and above) to the transmission systems of Public Service Company of Colorado and Cheyenne Light, Fuel & Power Company. AES states that the compliance tariff sheets are proposed to be effective April 26, 2004, and the variations to the pro forma LGIP are proposed to be effective no later than June 26, 2004.

Comment Date: May 17, 2004.

2. El Paso Electric Company

[Docket No. ER04-448-002]

Take notice that on April 26, 2004, El Paso Electric Company (EPE) tendered for filing in compliance with Order No. 2003-A, Standardization of Generator Interconnection Agreements and Procedures, FERC Stats. & Regs. Preambles ¶ 31,160 (2004), Attachment J to its revised Open Access Transmission Tariff, FERC Electric Tariff Third Revised Volume No. 1, First Revised Sheet Nos. 182-384.

Comment Date: May 17, 2004.

3. Midwest Independent Transmission System Operator, Inc.

[Docket No. ER04-458-001]

Take notice that on April 26, 2004, the Midwest Independent Transmission System Operator, Inc. (Midwest ISO), pursuant to Section 205 of the Federal Power Act and the Commission's requirements established in Order No. 2003-A, Standardization of Generator Interconnection Agreements and Procedures, FERC ¶ 61,220 (2004), filed amendments to the tariff sheets submitted as part of the Midwest ISO's January 20, 2004, filing in Docket No. ER04-458-000. In addition, the Midwest ISO requested waiver of all appropriate Commission regulations necessary.

Comment Date: May 17, 2004.

4. PJM Interconnection, L.L.C.

[Docket No. ER04-580-001]

Take notice that on April 23, 2004, PJM Interconnection, L.L.C. (PJM) submitted for filing a substitute construction service agreement among PJM, Bethesda Triangle, LLC, and Potomac Electric Power Company in compliance with the Commission's letter order issued March 26, 2004, in Docket No. ER04-580-001.

PJM states that copies of this filing were served upon persons designated on the official service list compiled by the Secretary in this proceeding and the parties to the agreements.

Comment Date: May 14, 2004.

5. Public Service Company of New Mexico

[Docket No. ER04-760-000]

Take notice that on April 26, 2004, Public Service Company of New Mexico (PNM) tendered for filing revisions to its Open Access Transmission Tariff (FERC Electric Tariff, Second Revised Volume No. 4) to incorporate certain changes with respect to the Large Generator Interconnection Procedures (LGIP) and the Large Generator Interconnection Agreement (LGIA) requirements issued by the Commission in FERC Order Nos. 2003 and 2003-A. PNM requests an effective date of June 25, 2004.

PNM states that copies of the filing have been sent to all PNM large generation interconnection customers, to all entities that have pending large generation interconnection requests with PNM, to the New Mexico Public Regulation Commission, and to the New Mexico Attorney General.

Comment Date: May 17, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1032 Filed 5-5-04; 8:45 am]

BILLING CODE 6717-01-P